NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 16, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: (301) 837-3698.

Requesters must cite the control number, which appears in parentheses after the name of the agency which submitted the schedule, and must provide a mailing address. Those who desire appraisal reports should so indicate in their request.

FOR FURTHER INFORMATION CONTACT: Laurence Brewer, Director, National Records Management Program (ACN), National Archives and Records Administration, 8601 Adelphi Road, College Park, MD 20740-6001. Telephone: (301) 837-1539. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Marketing Service (N1-136-10-2, 20 items, 14 temporary items). General records of the program that monitors, collects, and analyzes data about pesticide residues and food-borne pathogens in agricultural commodities; the master files of an electronic recordkeeping system used to submit data to the final data repositories; ad hoc reports and datasets; and working papers and supporting documentation of laboratories and sampling partners that collect the data. Proposed for permanent retention are master files of two electronic information systems containing data on pesticide residues and food-borne pathogens on selected agricultural products, the corresponding system and data documentation, and annual reports on the data collected.

2. Department of Agriculture, Grain, Inspection, Packers, and Stockyards Administration (N1-545-08-23, 6 items, 6 temporary items). Records relating to the training program, including policy information and tutorial instructions, reports and data used to propose future trainings, plans and cost estimates, administrative material related to securing training facilities, and case files of trainings completed.

3. Department of Agriculture, Risk Management Agency (N1-145-09-2, 31 items, 31 temporary items). Master files of electronic systems containing information to support risk management for producer loss, monitoring, and compliance oversight of agricultural disasters.

4. Department of Agriculture, Rural Development (N1-572-09-3, 1 item, 1 temporary item). Master files of an electronic information system that contains applicant fingerprints and personal information for candidate background investigations.

5. Department of the Army, Agency-wide (N1-AU-09-32, 1 item, 1 temporary item). Master files of an electronic information system used to manage the development and improvement of training ranges. Included are records relating to planning, funding, design, and construction.

6. Department of the Army, Agency-wide (N1-AU-10-25, 1 item, 1 temporary item). Master files of an electronic information system containing target and operating strength data for enlisted Army personnel used for personnel planning purposes.

7. Department of the Army, Agency-wide (N1-AU-10-31, 1 item, 1 temporary item). Master files of an electronic information system containing personnel data on soldiers assigned to special liaison duty.

8. Department of the Army, Agency-wide (N1-AU-10-32, 1 item, 1 temporary item). Master files of an electronic information system used to track manpower authorizations and on-hand strength data.

9. Department of the Army, Agency-wide (N1-AU-10-65, 1 item, 1 temporary item). Master files of an electronic information system containing information about munitions expenditures on training ranges.

10. Department of Commerce, Bureau of the Census (N1-29-12-2, 1 item, 1 temporary item). Paper input records for an obsolete database that generated estimates and projections of manufacturing activity in the United States, Puerto Rico, Canada, Japan, Turkey, and the nations of Western Europe.

11. Department of Defense, Defense Contract Management Agency (N1-558-10-4, 6 items, 6 temporary items). Records relating to human resources and pay administration, including position classification, employment applications and interviews, employee counseling, benefits, employee awards, and training.

12. Department of Energy, Federal Energy Regulatory Commission (N1-138-11-3, 1 item, 1 temporary item). Digests of market publications relating to energy markets, activities, trends, and conditions.

13. Department of Health and Human Services, Centers for Medicare & Medicaid Services (N1-440-11-3, 1 item, 1 temporary item). Master files of an electronic information system containing information captured about patients at admission, discharge, or death, including administrative information, medical information, cognitive status, impairments, and discharge status.

14. Department of Health and Human Services, Centers for Medicare & Medicaid Services (N1-440-11-4, 2 items, 2 temporary items). Records of demonstration and evaluation projects such as award or initiation letters, cost reports, financial statements, correspondence, progress reports, and invoices.

15. Department of Health and Human Services, Food and Drug Administration (N1-88-09-10, 4 items, 4 temporary items). Records relating to managing the agency's Web sites and master files of an electronic system containing internal and external Web site content and related descriptive information.

16. Department of Homeland Security, Transportation Security Administration (N1-560-11-4, 5 items, 5 temporary items). Records of certified cargo screening facility applications that include denied, incomplete, active, withdrawn, and revoked applications. They contain forms, correspondence, memoranda, certifications, notices, reports, and facility assessments.

17. Department of Homeland Security, Transportation Security Administration (N1-560-11-5, 4 items, 4 temporary items). Master files of an electronic information system used to create tabletop transportation security training exercises which contain user profile information, exercise scenarios, guides, feedback, lessons learned, and information sharing in a collaborative space.

18. Department of the Interior, Office of the Special Trustee for American Indians (N1-75-09-4, 4 items, 1 temporary item). Scanned images of correspondence maintained for reference. Original correspondence files are scheduled for permanent retention.

19. Department of Justice (N1-60-10-32, 4 items, 4 temporary items). Records relating to a mentorship program for new hires.

20. Department of Transportation, Federal Transit Administration (N1-408-11-12, 3 items, 2 temporary items). Records of the Office of Research, Demonstration and Innovation, including grant project files and reports. Proposed for permanent retention are record copies of final product reports.

21. Department of the Treasury, Internal Revenue Service (N1-58-10-11, 3 items, 3 temporary items). Master files, outputs, and system documentation of an electronic information system used to track information technology budget allocations and executions.

22. National Archives and Records Administration, Agency-Wide (DAA-0064-2011-0004, 1 item, 1 temporary item). Notification letters, mailed to subjects of a breach in the protection of personally identifiable information, which were returned as undeliverable.

23. Railroad Retirement Board, Bureau of the Actuary (N1-184-09-3, 42 items, 39 temporary items). Actuarial publications and reports working files, gross earnings files, annual wage study files, financial interchange files, retirement and survivor program files, budget projections, and publications. Proposed for permanent retention are bureau program and policy records, actuarial valuations of agency assets and liabilities, and advisory committee records.

24. Securities and Exchange Commission, Ethics Office (N1-266-11-2, 1 item, 1 temporary item). Employee conduct files including documentation on ethics training and guidance received by staff.

25. Social Security Administration, Office of Disability Adjudication and Review (N1-47-10-5, 1 item, 1 temporary item). Records, of requests, hearing documents, recordings, and filed complaints concerning the review of claims of bias and misconduct by administrative law judges.

Dated: November 8, 2011.
Paul M. Wester, Jr.,
Chief Records Officer for the U.S. Government.

[FR Doc. 2011-29557 Filed 11-15-11; 8:45 am]

BILLING CODE 7515-01-P